DEPARTMENT OF THE INTERIOR

Bureau of Indian Affairs

Indian Gaming

AGENCY: Bureau of Indian Affairs, Interior.

ACTION: Notice of Approved Tribal-State Class III Gaming Amendments.

SUMMARY: This notice publishes approval of amendments to 13 Class III Tribal-State Gaming Compacts (Amendments). The 13 Class III Gaming Compacts are between the State of Arizona and each of the following Indian tribes, respectively: Ak-Chin Indian Community, Colorado River Indian Tribes, Cocopah Indian Tribe, Fort McDowell Yavapai Nation, Fort Mojave Indian Tribe, Havasupai Indian Tribe, Hualapai Indian Tribe, Kaibab-Paiute Indian Tribe, Navajo Nation, Tohono O'odham Nation, White Mountain Apache Tribe, Yavapai-Apache Tribe, and Zuni Tribe.

DATES: Effective Date: March 25, 2009.

FOR FURTHER INFORMATION CONTACT: Paula L. Hart, Acting Director, Office of Indian Gaming, Office of the Deputy Assistant Secretary—Policy and Economic Development, Washington, DC 20240. Telephone: (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. The approved Amendments are substantially identical. Generally, the Amendments consist of clarifications and minor changes to various sections of each tribe's current compact (which are also substantially identical). The Amendments change the destination and frequency of the tribes' payments from quarterly to yearly, based upon the individual gaming facility's fiscal year.

Dated: March 6, 2009.
George T. Skibine,
Deputy Assistant Secretary for Policy and Economic Development.

[FR Doc. E9-6585 Filed 3-24-09; 8:45 am]

BILLING CODE 4310-4N-P